DEPARTMENT OF DEFENSE

GENERAL SERVICES ADMINISTRATION

NATIONAL AERONAUTICS AND SPACE ADMINISTRATION

[OMB Control No. 9000-0129; Docket No. 2019-0003; Sequence No. 26]

Information Collection; Cost Accounting Standards Administration

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision and renewal concerning Cost Accounting Standards administration.

DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through October 31, 2019. DoD, GSA, and NASA propose that OMB extend its approval for use for three additional years beyond the current expiration date.

DATES: DoD, GSA, and NASA will consider all comments received by October 1, 2019.

ADDRESSES: DoD, GSA, and NASA invite interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0129, Cost Accounting Standards Administration.

Instructions: All items submitted must cite Information Collection 9000-9000-0129, Cost Accounting Standards Administration. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Zenaida Delgado, Procurement Analyst, at telephone 202-969-7207, or zenaida.delgado@gsa.gov.

SUPPLEMENTARY INFORMATION:

A. OMB Control Number, Title, and Any Associated Form(s)

9000-0129, Cost Accounting Standards Administration.

B. Need and Uses

This clearance covers the information that contractors must submit to comply with the Cost Accounting Standards (CAS) under the Federal Acquisition Regulation (FAR). FAR clause 52.230-6, Administration of Cost Accounting Standards, requires contractors performing CAS-covered contracts to submit notifications and descriptions of certain cost accounting practice changes, including revisions to their Disclosure Statements, if applicable.

The threshold for CAS applicability is required by 41 U.S.C. 1502(b)(1)(B) to be the same as the threshold for requesting certified cost or pricing data at FAR 15.403-4(a)(1). The burden was calculated with data from the Federal Procurement Data System for Fiscal year 2016 through 2018 using the increased threshold for requesting certified cost or pricing data of $2 million as proposed by FAR Case 2018-005, Modifications to Cost or Pricing Data Reporting Requirements, per section 811 of the National Defense Authorization Act for Fiscal Year 2018.

C. Annual Burden

Respondents: 599.

Total Annual Responses: 1,797.

Total Burden Hours: 314,475.

Obtaining Copies: Requesters may obtain a copy of the information collection documents from the General Services Administration, Regulatory Secretariat Division (MVCB), 1800 F Street NW, Washington, DC 20405, telephone 202-501-4755.

Please cite OMB Control No. 9000-0129, Cost Accounting Standards Administration, in all correspondence.

Dated: July 29, 2019.
Janet Fry,
Director, Federal Acquisition Policy Division, Office of Governmentwide Acquisition Policy, Office of Acquisition Policy, Office of Governmentwide Policy.

[FR Doc. 2019-16499 Filed 8-1-19; 8:45 am]

BILLING CODE 6820-EP-P